FEDERAL COMMUNICATIONS COMMISSION

47 CFR Part 73

[DA 01-2326, MM Docket No. 00-100, RM-9860]

Digital Television Broadcast Service; San Antonio, TX

AGENCY: Federal Communications Commission.

ACTION: Final rule.

SUMMARY: The Commission, at the request of Alamo Public Telecommunications Council, licensee of noncommercial station KLRN-TV, NTSC channel *9, substitutes DTV channel *8 for DTV channel *20 at San Antonio, Texas. See 65 FR 36809, June 12, 2000. DTV channel *8 can be allotted to San Antonio in compliance with the principle community coverage requirements of Section 73.625(a) at reference coordinates (29-19-38 N. and 98-21-17 W.) with a power of 8.3, HAAT of 263 meters and with a DTV service population of 1464 thousand. Since the community of San Antonio is located within 275 kilometers of the U.S.-Mexican border, concurrence of the Mexican government has been obtained for this allotment. With this action, this proceeding is terminated.

DATES: Effective November 26, 2001.

FOR FURTHER INFORMATION CONTACT: Pam Blumenthal, Mass Media Bureau, (202) 418-1600.

SUPPLEMENTARY INFORMATION: This is a synopsis of the Commission's Report and Order, MM Docket No. 00-100, adopted October 5, 2001, and released October 11, 2001. The full text of this Commission decision is available for inspection and copying during normal business hours in the FCC Reference Center 445 12th Street, SW., Washington, DC. This document may also be purchased from the Commission's duplicating contractor, Qualex International, Portals II, 445 12th Street, SW, CY-B402, Washington, DC 20554, telephone 202-863-2893, facsimile 202-863-2898, or via e-mail qualexint@aol.com.

List of Subjects in 47 CFR Part 73

Television, Digital television broadcasting.

Part 73 of Title 47 of the Code of Federal Regulations is amended as follows:

PART 73—[AMENDED]

1. The authority citation for Part 73 continues to read as follows:

Authority: 47 U.S.C. 154, 303, 334, 336.

§ 73.622 [Amended]

2. Section 73.622(b), the Table of Digital Television Allotments under Texas, is amended by removing DTV channel *20 and adding DTV channel *8 at San Antonio.

Federal Communications Commission.
Barbara A. Kreisman,
Chief, Video Services Division, Mass Media Bureau.

[FR Doc. 01-25917 Filed 10-15-01; 8:45 am]

BILLING CODE 6712-01-P